DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before April 12, 2010. Address written comments to Statutory Import Programs Staff, Room 3720, U.S. Department of Commerce, Washington, D.C. 20230. Applications may be examined between 8:30 A.M. and 5:00 P.M. at the U.S. Department of Commerce in Room 3720.

Docket Number: 10-004. Applicant: State University of New York College at Geneseo, Erwin Hall 218, 1 College Circle, Geneseo, NY 14454. Instrument: MultiView 2000TS Microscope System. Manufacturer: Nanonics Imaging Ltd., Israel. Intended Use: This instrument will be used, among other things, to study the folding structure of A-beta proteins around nanostructures. This instrument combines an optical microscope with a scanning probe imaging system. Specifically, this instrument can perform near-field scanning optical microscopy. A pertinent feature of this instrument is the ability to switch between scanning the tip and the sample stage. It is also well suited for soft materials than other instruments, as it detects the probe coming close to the sample surface by monitoring a frequency shift in a nano-tuning fork. Other unique features include the ability to use conventional AFM type silicon cantilevers as well as cantilevered optical fiber probes with exposed probe geometry, providing normal force sensing; the capability to image side walls with an exposed tip glass AFM probe and the ability to image in both NSOM and AFM with AC operating modes. Justification for Duty-Free Entry: No instruments of same general category are believed to be manufactured in the United States. Application accepted by Commissioner of Customs: March 10, 2010.

Dated: March 16, 2010.
Christopher Cassel,
Director, IA Subsidies Enforcement Office.

[FR Doc. 2010-6255 Filed 3-19-10; 8:45 am]

BILLING CODE 3510-DS-S